DEPARTMENT OF TRANSPORTATION

Federal Aviation Administration

Fourth RTCA SC-236 Wireless Airborne Intra Communications (WAIC) Joint Plenary With EUROCAE WG-96

AGENCY: Federal Aviation Administration (FAA), U.S. Department of Transportation (DOT).

ACTION: Fourth RTCA SC-236 Wireless Airborne Intra Communications (WAIC) Joint Plenary with EUROCAE WG-96.

SUMMARY: The FAA is issuing this notice to advise the public of a meeting of Fourth RTCA SC-236 Wireless Airborne Intra Communications (WAIC) Joint Plenary with EUROCAE WG-96.

DATES: The meeting will be held February 27-March 02, 2018, 9:00 a.m.-5:00 p.m.

ADDRESSES: The meeting will be held at: RTCA Headquarters, 1150 18th Street NW, Suite 910, Washington, DC 20036.

FOR FURTHER INFORMATION CONTACT: Rebecca Morrison at rmorrison@rtca.org or 202-330-0654, or The RTCA Secretariat, 1150 18th Street NW, Suite 910, Washington, DC 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Fourth RTCA SC-236 Wireless Airborne Intra Communications (WAIC) Joint Plenary with EUROCAE WG-96. The agenda will include the following:

Tuesday, February 27, 2018, 9:00 a.m.-5:00 p.m.

1. Welcome/Administrative Duties

2. IPR/Membership Call-Out and Introductions

3. Acceptance of Meeting Minutes for the Third Joint Plenary of SC-236/WG-96 Held in Cologne In November 2017

4. Review Plenary Agenda and Sub-Working Group Schedule Including Delivery Schedule for White Paper and MOPS

5. Break Into Sub-Working Group Meetings When Plenary Business Complete

Wednesday, February 28, 2018, 9:00 a.m.-5:00 p.m.

6. Continue With Plenary or Sub-Working Group Meetings

Thursday, March 1, 2018, 9:00 a.m.-5:00 p.m.

7. Continue With Plenary or Sub-Working Group Meetings

Friday, March 2, 2018, 9:00 a.m.-12:00 p.m.

8. Continue With Plenary or Sub-Working Group Meetings

9. Reports of the Sub-Working Groups

10. Status and Review of the Draft Paper SC-236 Intermediate Report (Dedicated for ICAO Job Card)

11. Review of Special Committee Schedule

12. Approve Changes and Updates to the Terms of Reference

13. New Business Discussions

14. Review of Action Items

15. Plan for Next Meeting

16. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 12, 2018.
Mohannad Dawoud,
Management & Program Analyst, Partnership Contracts Branch, ANG-A17, NextGen, Procurement Services Division, Federal Aviation Administration.

[FR Doc. 2018-00771 Filed 1-17-18; 8:45 am]

BILLING CODE 4910-13-P